ENVIRONMENTAL PROTECTION AGENCY

40 CFR Part 300

[FRL-6844-1]

National Oil and Hazardous Substances Pollution Contingency Plan; National Priorities List

AGENCY: Environmental Protection Agency (EPA).

ACTION: Notice of intent to delete the Newsom Brothers Superfund Site from the National Priorities List (NPL): Request for comments.

SUMMARY: The Environmental Protection Agency (EPA) Region 4 announces the intent to delete the Newsom Brothers Superfund Site from the NPL and requests public comment on this proposed action. The NPL constitutes Appendix B of 40 CFR Part 300, which is the National Oil and Hazardous Substances Pollution Contingency Plan (NCP), which EPA promulgated pursuant to Section 105 of the Comprehensive Environmental Response, Compensation and Liability Act of 1980 (CERCLA). EPA and the State of Mississippi (State) have determined that all appropriate CERCLA actions have been implemented and that no further cleanup by responsible parties is appropriate under CERCLA. Moreover, EPA and the State have determined that remedial activities conducted at the site to date have been protective of public health, welfare, and the environment.

DATES: Comments concerning the proposed deletion of this Site will be accepted until September 1, 2000.

ADDRESSES: Comments may be mailed to: Carolyn B. Thompson, Remedial Project Manager, South Site Management Branch, Waste Management Division, U.S. Environmental Protection Agency, Region 4, 61 Forsyth Street, S.W., Atlanta, GA 30303.

Comprehensive information on this Site, as well as information specific to this proposed deletion, is available through the EPA Region 4 public docket and at the Site information repository. The Regional Docket Center is located at EPA's Region 4 office and is available for viewing by appointment only from 9:00 a.m. to 4:00 p.m., Monday through Friday, excluding holidays. Requests for appointments or copies of the background information from the regional public docket should be directed to the EPA Region 4 Docket Office.

The address for the Regional Docket Office is: Ms. Debbie Jourdan, U.S. Environmental Protection Agency, Region 4, 61 Forsyth Street, S.W., Atlanta, Georgia 30303, Telephone No.: (404) 562-8862.

The regional public docket is also available for viewing at the Site information repository located at the following address: South Mississippi Regional Library, 900 Broad Street, Columbia, Mississippi 39429.

FOR FURTHER INFORMATION CONTACT: Carolyn B. Thompson, Remedial Project Manager, South Site Management Branch, Waste Management Division, U.S. Environmental Protection Agency, Region 4, 61 Forsyth Street, S.W., Atlanta, GA 30303, (404) 562-8913; Michael T. Slack, P.E., CERCLA Division, Mississippi Department of Environmental Quality, Office of Pollution Control, 101 West Capitol Street, Jackson, MS 39201, (601) 961-5217.

SUPPLEMENTARY INFORMATION:

Table of Contents

I. Introduction

II. NPL Deletion Criteria

III. Deletion Procedures

IV. Basis for Intended Site Deletion

I. Introduction

The United States Environmental Protection Agency (EPA) Region 4 announces its intent to delete the Newsom Brothers/Reichhold Chemicals Superfund Site (the Site), in Columbia, Marion County, Mississippi from the National Priorities List (NPL), which constitutes Appendix B of the National Oil and Hazardous Substances Pollution Contingency Plan (NCP). EPA identifies sites that appear to present a significant risk to public health, welfare, or the environment and maintains the NPL as the list of those sites. EPA and the State of Mississippi have determined that the remedial action for this site has been successfully implemented.

EPA will accept comments on the proposal to delete this Site for thirty (30) days after publication of this document in the Federal Register.

Section II of this document explains the criteria for the deletion of sites from the NPL. Section III discusses procedures that EPA is using for this action. Section IV discusses how the Site meets the deletion criteria.

II. NPL Deletion Criteria

The NCP establishes the criteria that the EPA uses to delete sites from the NPL. In accordance with 40 CFR 300.425(e), releases may be deleted from the NPL where no further response is appropriate. In making this determination, EPA will consider, in consultation with the State, whether any of the following criteria have been met:

(i) Responsible parties or other persons have implemented all appropriate response actions required; or

(ii) All appropriate Fund-financed response under CERCLA has been implemented, and no further response action by responsible parties is appropriate; or

(iii) The remedial investigation has determined that the release poses no significant threat to public health or the environment and, therefore, taking of remedial measures is not appropriate.

Pursuant to 40 CFR 300.425(e)(3) of the NCP, any site deleted from the NPL remains eligible for Fund-financed Remedial Actions in the event that conditions at the site warrant such action. Even if a site is deleted from the NPL, where hazardous substances, pollutants, or contaminants remain at the site above levels that allow for unlimited use and unrestricted exposure, EPA's policy is that a subsequent review of the site will be conducted at least every five years after the initiation of the remedial action at the site to ensure that the site remains protective of public health and the environment. In the case of this site, no waste sources remain at the site. Thus, a five year review will not be required in the future.

If new information becomes available which indicates a need for further action, EPA may initiate further response actions. Whenever there is a significant release from a site deleted from the NPL, the site may be restored to the NPL without the application of the Hazard Ranking System.

III. Deletion Procedures

The following procedures were used for the intended deletion of this Site:

(1) The Site was listed on the NPL in 1986. Records of Decision were signed for Operable Unit One (OU1) on September 18, 1989, and for Operable Unit 2 (OU2) on August 8, 1997. All appropriate response actions under CERCLA have been implemented and no further action by EPA is appropriate. The site history is discussed in detail in Section IV.

(2) The Mississippi Department of Environmental Quality (Mississippi DEQ) concurs with the proposed deletion decision.

(3) A notice has been published in the local newspaper and has been distributed to appropriate federal, state, and local officials and other interested parties announcing the commencement of a 30-day public comment period on EPA's Notice of Intent to Delete.

(4) All relevant documents have been made available for public review in the local Site information repository.

Deletion of a site from the NPL does not itself, create, alter, or revoke any individual rights or obligations. The NPL is designated primarily for information purposes and to assist EPA management. As mentioned in Section II of this document, 40 CFR 300.425 (e)(3) states that deletion of a site from the NPL does not preclude eligibility for future Fund-financed response actions.

Comments from the local community may be the most pertinent to deletion decisions. EPA will accept and evaluate public comments before making a final decision to delete. EPA will prepare a Responsiveness Summary, if necessary, which will address any comments received during the public comment period.

A deletion occurs after the EPA Region 4 Regional Administrator places a notice in the Federal Register. Generally, the NPL will reflect any deletions in the final update following the Notice of Deletion. Public notices and copies of the Responsiveness Summary will be made available to local residents by EPA Region 4.

IV. Basis for Intended Site Deletion

The following site summary provides the Agency's rationale for the proposal to delete this site from the NPL.

A. Site Location

The Newsom Brothers Site (Site) is located in Columbia, Marion County, Mississippi. The 81-acre Site is surrounded by residential neighborhoods which, in some cases, are located directly adjacent to the Site boundaries. There are numerous businesses located along High School Avenue which borders the western boundary of the Site. The Site is completely fenced and access to the Site is restricted.

B. Site History

The Site was used for industrial and commercial activities for over 50 years. From the early 1930s until 1943, J.J. White Lumber Company operated a sawmill on the Site. The Southern Naval Stores Company, Limited, concurrently ran an operation, called Naval Stores, on various parcels of the Site, from 1936 to 1951. Naval Stores produced wood derivatives such as resin, turpentine, pine oil, and tall oil. The ownership and operation of Naval Stores changed several times between 1936 and 1951, but the plant consistently produced the same wood-derived products. From the 1950s until 1965, the Site was owned and operated by Leach Brothers, Incorporated. Reasor Chemical Corporation owned the Site from 1965 to 1972, and Chem-Pro International Inc. owned it from 1972 to 1974.

Southern Naval Stores Company, Reasor Chemical Corporation, and Chem-Pro International ran similar production processes. These processes involved grinding pine stumps and digesting them with a boiling liquor of sodium hydroxide and sodium sulfite. The products were tall oils, which are 35 to 40 percent resin and 50 to 60 percent fatty acids. Turpentine was also extracted from the pine stumps using naphtha. In addition, Reasor Chemical Corporation specifically manufactured calcium and zinc resinates, polymerized resin, and rubber resins.

In January 1975, Reichhold Chemicals, Inc., (Reichhold) purchased the property. Reichhold's operation included mixing pentachlorophenol (PCP) with diesel oil. In other operations, boron trifluoride was mixed with phenol and di-isobutylene to form octal phenol resin. Xylenes were also used in a number of processes.

Reichhold continued operations at the property until March 1977, when an explosion and fire in one of the boiler units destroyed most of the processing facility. No operations were conducted at the Site from 1977 to 1980.

In 1980 and 1981, ownership of the 81-acre Site transferred to R.R. Newsom, Sr. and R.R. Newsom, Jr. (owners of New-Cros Construction Company) and Mr. William Earl Stogner (owner of Stogner Trucking Company). The Newsoms' owned 49 acres of the original 81 acres and Mr. Stogner owned the remaining 32 acres. Both Stogner and the Newsoms had buildings on the property from which they operated their respective trucking and construction businesses. In November 1988, Reichhold regained complete ownership of the Site in connection with resolution of legal proceedings brought by Mr. Stogner and the Newsoms.

EPA performed two emergency removal actions at the Site in 1984 and 1987. The 1984 action involved the removal of over 600 55-gallon drums and the draining of two onsite ponds. EPA filled the South Pond with clay and graded it. The North Pond was allowed to refill with rainwater and was investigated further during subsequent remedial investigations. EPA performed a second removal action in 1987 involving the removal of approximately 1,920 tons of contaminated soil and 3,900 empty and partially filled drums.

EPA conducted the Remedial Investigation and Feasibility Study (RI/FS) on OU1 and signed the ROD in September 1989. On July 25, 1990, the U.S. District Court for the Southern District of Mississippi entered a consent decree between EPA and Reichhold, R.R. Newsom, Jr., and R.R. Newsom, Sr., for the performance of the Remedial Design and Remedial Action (RD/RA) associated with OU1 at the Site. On October 20, 1994, an amendment to the OU1 consent decree was entered by the Court to include the RI/FS associated with OU2.

C. Remedial Investigations and Actions

The Site was listed on the NPL in 1986, and the initial ROD was signed on September 18, 1989 (1989 ROD). A detailed history of the Site is presented in the Phase I and Phase II Remedial Investigation (RI) Reports dated September 21, 1987, and November 8, 1988, respectively. The Feasibility Study (FS) was completed in December of 1988.

In addition to the drummed materials mentioned previously, soils, sediments and groundwater were found to be impacted at the site. A wide variety of inorganic and organic constituents were found in these different media. Organic compounds detected in soils included toluene, ethyl benzene, phenol, pentachlorophenol and xylenes; the major inorganic chemicals detected were barium, chromium, copper, nickel and vanadium. In sediments, the major constituents included copper, phenols, ethyl benzene and xylenes. No contaminant groundwater plume could be identified, but detections of benzene, ethyl benzene, 1,1,1-trichloroethane, phthalates, and other organics were identified. Various inorganic metals were also detected above background.

The list of constituents of concern (COCs) determined by the investigation included benzene, ethyl benzene, xylenes, various carcinogenic polyaromatic hydrocarbon compounds (PAHs) and pentachlorophenol. Cleanup goals for soil and sediment were selected based upon an increased potential cancer risk of 10⁻⁶. Applicable or Relevant and Appropriate Requirements (ARARs) were utilized to develop Groundwater Protection Standards (GWPS) as cleanup criteria for groundwater. The establishment of the GWPS was based upon the Safe Drinking Water Act (SDWA) in the form of Maximum Contaminant Levels (MCLs) and Maximum Contaminant Level Goals (MCLGs). In cases where an MCL or MCLG had not been established, Federal Ambient Water Quality Criteria (AWQC) adjusted for drinking water, were used to establish the GWPS. Due to the sporadic detections and low concentration of the contaminants, groundwater remediation was not required by the 1989 ROD.

Remedial activities specified in the 1989 ROD included removal of asbestos-containing material; removal of above ground and underground storage tanks; drainage of on-site ponds; excavation and off-site disposal of contaminated pond sediments, contaminated soils and black tar-like waste; actions to prevent erosion; and groundwater monitoring. This work was performed by Reichhold pursuant to the consent decree. Substantial completion of remedial activities under the 1989 ROD was achieved for all areas in September 1993. A 5-year Operation and Maintenance (O&M) period followed and included the groundwater monitoring activities described below and maintenance of the 1989 ROD remedy.

In the final stages of remedial activities under the 1989 ROD, contamination not previously identified was discovered in the North Pond area, located in the northeast corner of the Site adjacent to the Site boundary near Chinaberry Street. However, residual soil and drums which were found during the North Pond excavation contained different contaminants than those which were cited for disposal in the 1989 ROD. This material was stockpiled for further analysis. Due to the excavation of these materials, it was suspected that contamination extending below the bottom of the pond into the groundwater existed. In order to address the stockpiled excavated materials and the potential for groundwater contamination at the North Pond, EPA designated this area as a separate unit, OU2. The remedial activities covered under the 1989 ROD were thereinafter referred to as OU1 activities.

The RI for OU2 was completed in February of 1995. Since the contaminated soils and materials had already been removed (with the exception of the stockpiled materials from the North Pond, which were disposed off-site in October 1995), the primary focus of the OU2 RI was to determine the extent of the groundwater contamination at the Site. As described in the OU2 ROD, no discernable groundwater plume of contamination could be identified and detections of COCs were sporadic. The OU2 ROD, signed on August 8, 1997, specified that no remedial action was necessary for OU2. However, to ensure that possible groundwater contaminants did not pose a future threat to the off-site residents, the OU2 ROD specified a 3-year period of groundwater monitoring.

D. Groundwater Monitoring Network

In accordance with the OU1 Post Remedial Groundwater Monitoring Plan and the OU2 Revised Groundwater Monitoring Program, Reichhold has been conducting groundwater monitoring on selected OU1 monitoring wells since May 1994. The five-year OU1 monitoring was performed quarterly during the first year and semi-annually for the subsequent four years of the required 5-year O&M period. The OU2 wells have been monitored since May 1997 on a quarterly basis during the first year and on a semi-annual basis during the subsequent two years. The list of COCs included in these monitoring events remained constant throughout the groundwater monitoring program for both OU1 and OU2. A current analysis of the ARARs indicates that the GWPS established in the ROD are still consistent with the NCP. The last required monitoring event for OU1 took place in November 1998 and for OU2 in December 1999.

The results of the groundwater monitoring are thoroughly discussed in the Final Summary Report, April 2000, prepared by Malcolm, Pirnie, Inc., for Reichhold. The results of the groundwater monitoring program do not indicate the presence of any COCs in concentrations exceeding GWPS or ROD performance standards.

E. Characterization of Risk

As discussed in the OU2 ROD, the soil exposure pathway was eliminated when the stockpiled soils were removed from the site in 1995. The only remaining pathway was the potential effects caused by uncontrolled groundwater migration to off-site residential wells located down gradient from the site. However, this exposure pathway is incomplete because there are no receptors. The site is wholly owned by Reichhold and its access is restricted. All on-site water is supplied by the City of Columbia water system. No municipal or private drinking water wells are located offsite in the direction of the groundwater migration from the site. As described, above, the groundwater monitoring performed does not indicate the presence of any COCs in concentrations exceeding GWPS or ROD performance standards. Therefore, the groundwater does not pose a current or future threat to off-site residents.

F. Community Involvement

This site has always been of interest to the surrounding communities. EPA has been directly involved with the community since the NPL listing in 1986. Several community groups have formed to represent concerned citizens over the years. The most recent group is the Jesus People Against Pollution (JPAP), which formed in 1992. JPAP has been an active participant ever since and currently is the only active group around the site. JPAP was awarded the Technical Assistance Grant (TAG) for the Site.

G. Applicable Deletion Criteria

EPA must demonstrate that any of the three criteria for deletion described in Section II are satisfied. EPA, with concurrence from the Mississippi DEQ, believes that the responsible party, Reichhold, has implemented all appropriate response actions required for OU1 and OU2. Furthermore, with concurrence of the Mississippi DEQ, EPA has determined that all appropriate responses under CERCLA have been completed, and that no further action is necessary. The State of Mississippi concurred with the proposal to delete this site from the NPL, in a letter dated June 8, 2000, from Charles H. Chisholm, Mississippi DEQ, to Mario E. Villamarzo, Jr., EPA.

Therefore, EPA proposes to delete the Site from the NPL and requests public comments on the proposed deletion. Documents supporting this action are available in the site information repository and from the regional public docket.

Dated: July 21, 2000.
A. Stanley Meiburg,
Acting Regional Administrator, U.S. Environmental Protection Agency, Region 4.

[FR Doc. 00-19537 Filed 8-1-00; 8:45 am]

BILLING CODE 6560-50-U